DEPARTMENT OF COMMERCE

International Trade Administration

[A-823-810]

Solid Agricultural Grade Ammonium Nitrate from Ukraine: Continuation of Antidumping Duty Order

AGENCY: Import Administration, International Trade Administration, Department of Commerce.

SUMMARY: As a result of the determination by the Department of Commerce (“Department”) that revocation of the antidumping duty order ¹ on solid agricultural grade ammonium nitrate from Ukraine would likely lead to continuation or recurrence of dumping, and the determination by the International Trade Commission (“ITC”) that revocation of the Order would likely lead to continuation or recurrence of material injury to an industry in the United States, the Department is publishing this notice of the continuation of the Order.

¹ See Antidumping Duty Order: Solid Agricultural Grade Ammonium Nitrate from Ukraine, 66 FR 47451 (September 12, 2001) (“the Order”).

DATES: Effective Date: June 12, 2013.

FOR FURTHER INFORMATION CONTACT: Mahnaz Khan, AD/CVD Operations, Office 1, Import Administration, U.S. Department of Commerce, 14th Street and Constitution Avenue NW., Washington, DC 20230; telephone (202) 482-0914.

SUPPLEMENTARY INFORMATION:

Background

On June 1, 2012, the Department and the ITC initiated the second sunset review of the Order on solid agricultural grade ammonium nitrate from Ukraine, pursuant to section 751(c) of the Tariff Act of 1930, as amended (“the Act”).² As a result of this sunset review, the Department determined that revocation of the Order on solid agricultural grade ammonium nitrate from Ukraine would be likely to lead to continuation or recurrence of dumping and notified the ITC of the magnitude of the margin likely to prevail should the order be revoked.³

² See Initiation of Five-Year (“Sunset”) Review, 77 FR 32527 (June 1, 2012); and Ammonium Nitrate from Ukraine: Institution of a Five-Year Review, Investigation No. 731-TA-894 (Second Review), 77 FR 32669 (June 1, 2012).

³ See Solid Agricultural Grade Ammonium Nitrate from Ukraine: Final Results of the Expedited Second Sunset Review of the Antidumping Duty Order, 77 FR 59377 (September 27, 2012).

On May 24, 2013, pursuant to section 752(a) of the Act, the ITC published its determination that revocation of the Order on solid agricultural grade ammonium nitrate from Ukraine would likely lead to continuation or recurrence of material injury to an industry in the United States within a reasonably foreseeable time.⁴

⁴ See Certain Ammonium Nitrate from Ukraine, 78 FR 32690 (May 31, 2013).

Scope of the Order

The merchandise covered by the order are solid, fertilizer grade ammonium nitrate (“ammonium nitrate” or “subject merchandise”) products, whether prilled, granular or in other solid form, with or without additives or coating, and with a bulk density equal to or greater than 53 pounds per cubic foot. Specifically excluded from the scope is solid ammonium nitrate with a bulk density less than 53 pounds per cubic foot (commonly referred to as industrial or explosive grade ammonium nitrate). The merchandise subject to the order is classified in the Harmonized Tariff Schedule of the United States (“HTSUS”) at subheading 3102.30.00.00. HTSUS subheadings are provided for convenience and customs purposes. The written description of the scope of the order is dispositive.

Continuation of the Order

As a result of the determinations by the Department and the ITC that revocation of this Order would likely lead to continuation or recurrence of dumping and material injury to an industry in the United States, pursuant to section 751(d)(2) of the Act, the Department hereby orders the continuation of the Order on solid agricultural grade ammonium nitrate from Ukraine.

U.S. Customs and Border Protection will continue to collect antidumping duty cash deposits at the rates in effect at the time of entry for all imports of subject merchandise. The effective date of continuation of these orders will be the date of publication in the Federal Register of this notice of continuation. Pursuant to section 751(c)(2) of the Act, the Department intends to initiate the next five-year review of this order not later than 30 days prior to the fifth anniversary of the effective date of continuation.

This five-year sunset review and this notice are in accordance with section 751(c) of the Act and published pursuant to section 777(i)(1) of the Act.

Dated: June 5, 2013.
Paul Piquado,
Assistant Secretary for Import Administration.

[FR Doc. 2013-13966 Filed 6-11-13; 8:45 am]

BILLING CODE 3510-DS-P